DEPARTMENT OF ENERGY

Federal Energy Regulatory Commission

[Docket No. ER02-2001-000, et al.]

Electric Quarterly Reports et al.; Intent To Withdraw Market-Based Rate Authority

Issued July 28, 2003.

Before Commissioners: Pat Wood, III, Chairman; William L. Massey, and Nora Mead Brownell.

In the matter of: ER02-2001-000, ER95-1381-000, ER98-3451-000, ER94-1246-000, ER95-0878-000, ER97-1676-000, ER99-0581-000, ER97-4434-000, ER98-3934-000, ER99-1890-000, ER98-0102-000, ER99-2970-000, ER96-0924-000, ER02-0893-000, ER95-1399-000, ER96-0734-000, ER00-1530-000, ER96-1781-000, ER95-1752-000, ER01-2059-000, ER96-1631-000, ER97-3815-000, ER99-2540-000, ER96-1774-000, ER98-3006-000, ER97-3053-000, ER98-1221-000, ER01-1414-000, ER98-2232-000, ER97-4364-000, ER95-0751-000, ER98-3052-000, ER99-0823-000, ER97-4145-000, ER97-4680-000, ER97-1117-000, ER00-2535-000, ER98-2423-000, ER98-1297-000, ER96-2879-000: Electric Quarterly Reports, Alliance Strategies, American Premier Energy Corporation, Ashton Energy Corporation, Audit Pro Incorporated, Black Brook Energy Company, Business Discount Plan, Inc., Clean Air Capital Markets Corporation, Clinton Energy Management Services, Inc., Commodore Electric, Current Energy, Inc., Delta Energy Group, Direct Access Management, LP, Dorman Materials, Inc., Electech, Inc., Energy Marketing Services Inc., Energy & Steam Company, Inc., EnergyTek, Inc., Engineered Energy Systems Corporation, Enpower, Inc., Entrust Energy, LLC, Family Fiber Connection, Inc., Friendly Power Company, LLC, Full Power Corporation, Growth Unlimited Investments, Inc., K & K Resources, Inc., Keystone Energy Services, Inc., Micah Tech Industries, Inc., Northern Lights Power Company, People's Utility Corporation, PowerCom Energy & Communications Access, Inc., PowerGasSmart.com, Inc., PowerSource Corporation, River City Energy, Inc., Sigma Energy, Inc., Starghill Alternative Energy Corporation, TC Power Solutions, The New Power Company, The FURSTS Group, Inc., TransCurrent, LLC, US Energy, Inc.

1. Section 205 of the Federal Power Act (FPA), 16 U.S.C. 824d (2000); accord 18 CFR part 35 (2003), requires that all rates, terms and conditions of jurisdictional services be filed with the Commission. In Order No. 2001,¹ a final rule establishing revised public utility filing requirements for rates, terms and conditions of jurisdictional services,² the Commission required public utilities, including power marketers, to file, among other things, Electric Quarterly Reports summarizing the contractual terms and conditions in their agreements for all jurisdictional services (including market-based power sales, cost-based power sales, and transmission service) and transaction information (including rates) for short-term and long-term market-based power sales and cost-based power sales during the most recent calendar quarter. In Order No. 2001-C,³ the Commission required utilities to file their Electric Quarterly Reports using software provided by the Commission. Commission staff review of the Electric Quarterly Report submittals has revealed that a number of utilities that previously had been granted authority to sell power at market-based rates have failed to file Electric Quarterly Reports. Accordingly, this order notifies those utilities that their market-based rate authorizations will be withdrawn unless they comply with the Commission's requirements.

¹ Revised Public Utility Filing Requirements, Order No. 2001, 67 FR 31043, FERC Stats. & Regs. ¶ 31,127 (April 25, 2002), reh'g denied, Order No. 2001-A, 100 FERC ¶ 61,074, reconsideration and clarification denied, Order No.2001-B, 100 FERC ¶ 61,342, order directing filings, Order No. 2001-C, 101 FERC ¶ 61,314 (2002).

² Order No. 2001, FERC Stats. & Regs. ¶ 31,127 at P 11-12, 18-21.

³ Order No. 2001-C, 101 FERC ¶ 61,314 at P 9.

2. In Order No. 2001, the Commission stated that, [i]f a public utility fails to file a[n] Electric Quarterly Report (without an appropriate request for extension), or fails to report an agreement in a report, that public utility may forfeit its market-based rate authority and may be required to file a new application for market-based rate authority if it wishes to resume making sales at market-based rates.⁴

⁴ Order No. 2001, FERC Stats. & Regs. ¶ 31,127 at P 222.

3. The Commission further stated that, [t]he Electric Quarterly Reports are designed to satisfy the FPA section 205(c) requirements. For power marketers, the Electric Quarterly Report is intended to replace the current filing of Quarterly Transaction Reports summarizing their market-based rate transactions and the filing of long-term agreements. Electric Quarterly Reports are also intended to replace the Quarterly Transaction Reports and rate filings required of traditional utilities with market-based rate authority. Once this rule becomes effective, the requirement to comply with this rule will supersede the conditions in public utilities' market-based rate authorizations and failure to comply with the requirements of this rule will subject public utilities to the same consequences they would face for not satisfying the conditions in their rate authorizations, including possible revocation of their authority to make wholesale power sales at market-based rates.⁵

⁵ Id. at P 223.

4. Commission staff has determined that a number of public utilities that had been granted market-based rate authority have failed to file their Electric Quarterly Reports.⁶ Commission staff has made a concerted effort to contact non-filing utilities in writing and by phone to inform them of their regulatory obligation. Moreover, on April 24, 2003, the Secretary of the Commission sent letters to 423 companies reminding them that they were required to file the Electric Quarterly Report. The letters stated: [w]ithin thirty (30) days of the date of this letter, your company utility must file Electric Quarterly Reports for the 2nd, 3rd, and 4th Quarters of 2002 and the 1st Quarter of 2003. Failure to do so may result in the Commission's revocation of your market-based rate authority in accordance with Order No. 2001. * * * Please provide your immediate attention to this important compliance matter.⁷

⁶ In many cases, the utilities had previously failed to file Power Marketer Quarterly Reports (the predecessor to the Electric Quarterly Reports).

⁷ Letter informing Abacus Group Ltd, et al., that to date their Electric Quarterly Reports had not been filed and requesting that the reports for the 2nd, 3rd, and 4th quarters of 2002, et al., be filed within 30 days (April 24, 2003).

5. Each of the public utilities listed in the caption of this order was sent this letter but none of them responded. In some cases, the letters were returned unopened. Commission staff called the contacts identified in its power marketer rolls and searched Commission records and the Internet to identify alternate addresses and contacts. Where an alternate address or contact could be identified, a second letter was sent. These letters also received no response.⁸

⁸ These public utilities appear to have failed to update their addresses with the Secretary as required in the Commission's regulations, 18 CFR 385.2010(i)(2) (2003). In some cases, they may have gone out of business and failed to file a Notice of Cancellation of their electric market-based rate tariff with the Commission. See 18 CFR 35.15 (2003).

6. Notwithstanding efforts to find the non-filing public utilities listed in the caption of this order to remind them of their filing obligations, they have not complied with the requirement to file Electric Quarterly Reports.

7. Accordingly, the market-based rate authorizations for those utilities identified in the caption of this order will be withdrawn unless they comply with the Commission's requirements.

The Commission Orders

(A) Within 30 days of the date of issuance of this order, each public utility listed in the caption of this order shall file its Electric Quarterly Reports for the 2nd, 3rd, and 4th Quarters of 2002 and the 1st and 2nd Quarters of 2003. If no such filings are made, the Commission will withdraw the public utility's authority to sell power at market-based rates and terminate its electric market-based rate tariff.

(B) The Secretary is hereby directed to publish this order in the Federal Register.

By the Commission.
Magalie R. Salas,
Secretary.

[FR Doc. 03-19703 Filed 8-1-03; 8:45 am]

BILLING CODE 6717-01-P